DEPARTMENT OF EDUCATION

[Docket No. ED-2015-ICCD-0008]

Agency Information Collection Activities; Submission to the Office of Management and Budget for Review and Approval; Comment Request; Program for International Student Assessment 2015 (PISA: 2015) Main Study

AGENCY: Institute of Education Sciences/National Center for Education Statistics (IES), Department of Education (ED).

ACTION: Notice.

SUMMARY: In accordance with the Paperwork Reduction Act of 1995 (44 U.S.C. chapter 3501 et seq.), ED is proposing a revision of an existing information collection.

DATES: Interested persons are invited to submit comments on or before February 27, 2015.

ADDRESSES: Comments submitted in response to this notice should be submitted electronically through the Federal eRulemaking Portal at http://www.regulations.gov by selecting Docket ID number ED-2015-ICCD-0008 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E105, Washington, DC 20202.

FOR FURTHER INFORMATION CONTACT: For specific questions related to collection activities, please contact Kashka Kubzdela, 202-502-7411.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Program for International Student Assessment 2015 (PISA: 2015) Main Study.

OMB Control Number: 1850-0755.

Type of Review: A revision of an existing information collection.

Respondents/Affected Public: Individuals.

Total Estimated Number of Annual Responses: 20,445.

Total Estimated Number of Annual Burden Hours: 10,671.

Abstract: The Program for International Student Assessment (PISA) is an international assessment of 15-year-olds' knowledge, skills, and competencies primarily in three subject areas: science, reading, and mathematics literacy. PISA was first administered in 2000 and is conducted every three years. The sixth cycle of PISA, in 2015, will be administered in approximately 70 countries and jurisdictions. The United States has participated in all of the previous cycles and will participate in 2015 in order to track trends and to compare the performance of U.S. students with that in other education systems. As in 2006, in PISA 2015, science will be the major subject domain. PISA 2015 will also include computer-based assessments in reading, mathematics, collaborative problem solving, and financial literacy. In addition to these assessments, PISA 2015 will include questionnaires administered to the assessed students, as well as teachers and principals in their schools. This request is to conduct PISA main study data collection in the United States from October to November 2015.

Dated: January 22, 2015.
Stephanie Valentine,
Acting Director, Information Collection Clearance Division, Privacy, Information and Records Management Services, Office of Management.

[FR Doc. 2015-01487 Filed 1-27-15; 8:45 am]

BILLING CODE 4000-01-P